DEPARTMENT OF ENERGY

Federal Energy Regulatory Commission

[Project No. 14782-000]

Energy Resources USA Inc.; Notice of Preliminary Permit Application Accepted for Filing and Soliciting Comments, Motions To Intervene, and Competing Applications

On May 4, 2016, Energy Resources USA Inc. filed an application for a preliminary permit, pursuant to section 4(f) of the Federal Power Act (FPA), proposing to study the feasibility of the R.D. Bailey Dam Hydroelectric Project (R.D. Bailey Project or project) to be located at the existing U.S. Army Corps of Engineers' R.D. Bailey Dam on the Guyandotte River in Mingo and Wyoming Counties, West Virginia. The sole purpose of a preliminary permit, if issued, is to grant the permit holder priority to file a license application during the permit term. A preliminary permit does not authorize the permit holder to perform any land-disturbing activities or otherwise enter upon lands or waters owned by others without the owners' express permission.

The proposed project would consist of the following: (1) A new 90-foot-long by 45-foot-wide reinforced concrete powerhouse to be located downstream on the tailrace side of R.D. Bailey Dam; (2) a new 12-foot by 9-foot by 250-foot-long concrete conduit connecting the existing outlet tunnel with the powerhouse; (3) two 5-megawatt (MW) vertical Kaplan turbine-generator units with a total generating capacity of 10 MW; (4) a new 120-foot-long by 80-foot-wide tailrace; (5) a new 60-foot-long by 50-foot-wide substation with a 10-mega-volt-ampere 4.16/69-kilovolt (kV) three-phase step-up transformer; (6) a new 0.6-mile-long, 69-kV transmission line; and (7) appurtenant facilities. The R.D. Bailey Project would have an estimated annual generation of 38.5 gigawatt-hours.

Applicant Contact: Mr. Ander Gonzalez, Energy Resources USA Inc., 350 Lincoln Road, 2nd Floor, Miami, FL 33139; telephone (954) 248-8425.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14782-000.

More information about this project, including a copy of the application, can be viewed or printed on the “eLibrary” link of the Commission's Web site at http://www.ferc.gov/docs-filing/elibrary.asp. Enter the docket number (P-14782) in the docket number field to access the document. For assistance, contact FERC Online Support.

Dated: June 2, 2016.
Kimberly D. Bose,
Secretary.

[FR Doc. 2016-13648 Filed 6-8-16; 8:45 am]

BILLING CODE 6717-01-P